DEPARTMENT OF AGRICULTURE

Farm Service Agency

[Docket ID FSA-2025-0002]

Notice; Emergency Commodity Assistance Program (ECAP)

AGENCY: Farm Service Agency, U.S. Department of Agriculture (USDA).

ACTION: Notice.

SUMMARY: The Farm Service Agency (FSA) is issuing this notice to announce a change to ECAP related to subsequent acres of eligible commodities. It also announces the deadline to apply for an ECAP payment for the additional acres that are now eligible as a result of the change announced in this notice.

DATES: We will accept applications from producers for acres that are eligible as a result of the change announced in this notice through September 30, 2025.

FOR FURTHER INFORMATION CONTACT: Kathy Sayers; telephone: (202) 720-6870; email: Kathy.Sayers@usda.gov. Individuals with disabilities who require alternative means for communication should contact the USDA Target Center at (202) 720-2600 (voice and text telephone (TTY mode)) or dial 711 for Telecommunications Relay Service (both voice and text telephone users can initiate this call from any telephone).

SUPPLEMENTARY INFORMATION: ECAP was authorized by section 2102 of Title I of Division B of the American Relief Act, 2025 (Pub. L. 118-158) and announced in a notice of funds availability (NOFA) on March 19, 2025 (90 FR 12696). This document announces a change to the provisions regarding eligible acres under ECAP. It also announces the application deadline for producers to apply for payment for the additional acres that are now eligible as a result of that change.

The NOFA provided that in cases where a producer reported both an initial eligible commodity and a subsequent eligible commodity on the same acreage and the combination did not meet the definition of an approved double cropping situation, only the initial commodity was considered eligible for an ECAP payment. This rule applied even in cases where the initial eligible commodity failed or was prevented from being planted (90 FR 12699).

This notice announces a change to the eligibility of acres of subsequent eligible commodities. In situations where a producer planted, or was prevented from planting, both an initial crop and a subsequent crop on the same acreage for the 2024 crop year, the initial crop will continue to be eligible for ECAP if it was an eligible commodity as provided in the NOFA. If the subsequent crop that was planted or prevented from being planted was also an eligible commodity and was reported to FSA by August 15, 2025, on FSA-578, Report of Acreage, the subsequent crop will now also be eligible for ECAP regardless of whether it meets the definition of “double cropping” provided in the NOFA. FSA is making this change to align the administration of ECAP with the broad intent of the authorizing legislation to address the gap between the cost of production and market prices for all eligible commodities that were planted or prevented from being planted, due to feedback from industry leaders, commodity groups, and producers who were directly impacted.

The NOFA provided a deadline of August 15, 2025, for all applicants to submit an FSA-63 ECAP, Emergency Commodity Assistance Program (ECAP) Application. This notice announces the enrollment period for the additional acres of subsequent eligible commodities that now are eligible for ECAP as a result of the change announced in this notice. Applicants must submit an FSA-63 ECAP for those additional, eligible acres to their local FSA county office by September 30, 2025. FSA will mail postcards to producers who reported acres of subsequent eligible commodities to inform them of the additional eligibility and timeframe to apply. Producers may contact their local FSA county office to obtain a copy of their pre-filled application or complete their application electronically as described in the NOFA.

This notice does not extend the deadline of August 15, 2025, to apply for acres that were eligible under the initial NOFA or submit late-filed acreage reports. As provided in the NOFA, all applicants must also submit required eligibility forms to FSA by August 17, 2026, if not already on file with FSA for the 2024 program year.

William Beam,
Administrator, Farm Service Agency.

[FR Doc. 2025-15654 Filed 8-15-25; 8:45 am]

BILLING CODE 3411-E2-P